DEPARTMENT OF COMMERCE

International Trade Administration

Civil Nuclear Trade Advisory Committee: Cancellation of the Meeting of the Civil Nuclear Trade Advisory Committee

AGENCY: International Trade Administration, U.S. Department of Commerce

ACTION: Cancellation of Federal Advisory Committee Meeting.

SUMMARY: This notice announces cancellation of the December 21 meeting of the Civil Nuclear Trade Advisory Committee (CINTAC).

DATES: The meeting scheduled for Wednesday, December 21, 2016, from 10:30 a.m. to 11:30 a.m. Eastern Standard Time (EST) is cancelled. The meeting will be rescheduled in early 2017. The Federal Register Notice announcing this meeting was published on December 12, 2016 (https://www.federalregister.gov/documents/2016/12/12/2016-29703/civil-nuclear-trade-advisory-committee-meeting-of-the-civil-nuclear-trade-advisory-committee).

FOR FURTHER INFORMATION CONTACT: Mr. Jonathan Chesebro, Office of Energy & Environmental Industries, International Trade Administration, Room 20010, 1401 Constitution Ave. NW., Washington, DC 20230. (Phone: 202-482-1297; Fax: 202-482-5665; email: jonathan.chesebro@trade.gov).

SUPPLEMENTARY INFORMATION:

Background: The CINTAC was established under the discretionary authority of the Secretary of Commerce and in accordance with the Federal Advisory Committee Act (5 U.S.C. App.), in response to an identified need for consensus advice from U.S. industry to the U.S. Government regarding the development and administration of programs to expand United States exports of civil nuclear goods and services in accordance with applicable U.S. laws and regulations, including advice on how U.S. civil nuclear goods and services export policies, programs, and activities will affect the U.S. civil nuclear industry's competitiveness and ability to participate in the international market.

Man Cho,
Deputy Director, Office of Energy and Environmental Industries.

[FR Doc. 2016-30616 Filed 12-19-16; 8:45 am]

BILLING CODE 3510-DR-P